NUCLEAR REGULATORY COMMISSION

Advisory Committee on Nuclear Waste (ACNW); Notice of Meeting

The Advisory Committee on Nuclear Waste (ACNW) will hold its 153rd meeting on September 22-23, 2004, at the Suncoast Hotel (Ballroom A), 9090 Alta Drive, Las Vegas, Nevada.

The entire meeting will be open to public attendance.

The schedule for this meeting is as follows:

Wednesday, September 22, 2004

(1) 8-8:10 a.m. Opening Statement

Working Group on the Evaluation of Igneous Activity and its Consequences at a Geologic Repository at Yucca Mountain, Nevada (Open)

(2) 8:10-8:20 a.m. Greeting and Introductions

Working Group Session; 1 Geologic Considerations in the Estimation of Probability of Igneous Activity at Yucca Mountain

(3) 8:20-8:50 a.m.¹ NRC Perspective on Volcanism Modeling Issues

¹ Presentation time should not exceed 50 percent of the total time allocated for a specific agenda item. The remaining 50 percent of the time is reserved for discussion.

(4) 8:50-9:50 a.m. NRC Overview of Igneous Activity in the Yucca Mountain Region

9:50-10:10 a.m. * * * Break * * *

(5) 10:10-10:55 a.m. 1996 Probabilistic Volcanic Hazards Analysis: One Subject Matter Experts' Perspective

(6) 10:55-11:40 a.m. Alternative Views on the Likelihood of an Igneous Event in the Yucca Mountain Region

11:40-1 p.m. * * * Lunch * * *

(7) 1-2 p.m. Session 1 Working Group Roundtable Discussion

(8) 2-2:30 p.m. Public Comments

2:30-2:45 p.m. * * * Break * * *

Working Group Session 2; Characterization of Magma/Repository Interactions

(9) 2:45-3:30 p.m. NRC Staff Perspective on the Modeling of Magma/Repository Interactions

(10) 3:30-4:15 p.m. 2002 Recommendations of the DOE-Sponsored Igneous Consequences Peer Review Panel: One Panelist's Perspective

(11) 4:15-5 p.m. Alternative Views on the Modeling of Magma/Repository Interactions at Yucca Mountain

(12) 5-6 p.m. Session 2 Working Group Roundtable Discussion

(13) 6-6:30 p.m. Public Comments

Adjourn Day 1

Thursday, September 23, 2004

(14) 8-8:10 a.m. Opening Statement

Working Group Session 3; Biosphere Doses Due to Disruptive Igneous Events

(15) 8:10-9:40 a.m. NRC Staff Perspective on Challenges to Modeling Doses due to Disruptive Igneous Events

(16) 9:40-12 p.m. ACNW Invited Speakers on Biosphere Dose Modeling Issues

16.1 Perspectives on Aerosol Modeling Issues

16.2 Perspectives on Resuspension Modeling Issues

16.3 Perspectives on Dose Modeling

Issues

12-1 p.m. * * * Lunch * *

(17) 1-2 p.m. Session 3 Working Group Roundtable Discussion

(18) 2-3 p.m. Presentations by Stakeholder Organizations

3-3:15 p.m. * * * Break * * *

(19) 3:15-4:15 p.m. Panel and Committee Summary Discussion

(20) 4:15-4:45 p.m. Epilogue Remarks

(21) 4:45-5 p.m. Closing Comments by the Working Group Chairman

(22) 5-5:30 p.m. Discussion of ACNW Letter Report

5:30-6 p.m. * * * Break * * *

(23) 6-7 p.m. Future ACNW Activities/Report of the Planning and Procedures Subcommittee

Adjourn 153rd ACNW Meeting

Procedures for the conduct of and participation in ACNW meetings were published in the Federal Register on October 16, 2003 (68 FR 59643). In accordance with these procedures, oral or written statements may be presented by members of the public. Electronic recordings will be permitted only during those portions of the meeting that are open to the public. Persons desiring to make oral statements should notify Mr. Howard J. Larson, Assistant Director for ACNW/Team Leader (telephone 301/415-6805), between 7:30 a.m. and 4 p.m. e.t., as far in advance as practicable so that appropriate arrangements can be made to schedule the necessary time during the meeting for such statements. Use of still, motion picture, and television cameras during this meeting will be limited to selected portions of the meeting as determined by the ACNW Chairman.

Information regarding the time to be set aside for taking pictures may be obtained by contacting the ACNW office prior to the meeting. In view of the possibility that the schedule for ACNW meetings may be adjusted by the Chairman as necessary to facilitate the conduct of the meeting, persons planning to attend should notify Mr. Larson as to their particular needs.

Further information regarding topics to be discussed, whether the meeting has been canceled or rescheduled, the Chairman's ruling on requests for the opportunity to present oral statements and the time allotted therefore can be obtained by contacting Mr. Larson.

ACNW meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/ (ACRS & ACNW Mtg schedules/agendas).

Dated: September 10, 2004.
Andrew L. Bates,
Advisory Committee Management Officer.

[FR Doc. 04-20859 Filed 9-15-04; 8:45 am]

BILLING CODE 7590-01-P